SECURITIES AND EXCHANGE COMMISSION

[Release No. 34-98664; File No. SR-CBOE-2023-044]

Self-Regulatory Organizations; Cboe Exchange, Inc.; Notice of Withdrawal of a Proposed Rule Change To Adopt a Quote Protection Timer

September 29, 2023.

On August 30, 2023, Cboe Exchange, Inc. (“Exchange”) filed with the Securities and Exchange Commission (“Commission”), pursuant to Section 19(b)(1) of the Securities Exchange Act of 1934 ¹ and Rule 19b-4 thereunder,² a proposed rule change to amend Exchange Rule 5.32 to adopt a passive quote protection mechanism. The proposed rule change was published for comment in the Federal Register on September 12, 2023.³ No comments were received on the proposed rule change. On September 20, 2023, the Exchange withdrew the proposed rule change (CBOE-2023-044).

¹ 15 U.S.C. 78s(b)(1).

² 17 CFR 240.19b-4.

³ See Securities Exchange Act Release No. 98304 (September 6, 2023), 88 FR 62612.

For the Commission, by the Division of Trading and Markets, pursuant to delegated authority.⁴
⁴ 17 CFR 200.30-3(a)(12).
Sherry R. Haywood,
Assistant Secretary.

[FR Doc. 2023-22040 Filed 10-3-23; 8:45 am]

BILLING CODE 8011-01-P